DEPARTMENT OF COMMERCE

International Trade Administration

A-469-805

Stainless Steel Bar from Spain: Final Results of Antidumping Duty Administrative Review

AGENCY: Import Administration, International Trade Administration, Department of Commerce.

SUMMARY: On March 28, 2007, the Department of Commerce published the preliminary results of the 2005/2006 administrative review of the antidumping duty order on stainless steel bar from Spain. We gave interested parties an opportunity to comment on the preliminary results. Based on our analysis of the comments received we did not make changes for the final results. The final weighted-average dumping margin for a single respondent is listed below in the “Final Results of the Review” section of this notice.

EFFECTIVE DATE: August 2, 2007.

FOR FURTHER INFORMATION CONTACT: Dmitry Vladamirov or Minoo Hatten, AD/CVD Operations, Office 5, Import Administration, International Trade Administration, U.S. Department of Commerce, 14th Street and Constitution Avenue, NW., Washington, DC 20230; telephone: (202) 482-0665 and (202) 482-1690, respectively.

SUPPLEMENTARY INFORMATION:

Background

On March 28, 2007, the Department of Commerce (the Department) published Stainless Steel Bar from Spain: Preliminary Results of Antidumping Duty Administrative Review, 72 FR 14522 (March 28, 2007) (Preliminary Results) in the Federal Register. The period of review is March 1, 2005, through February 28, 2006.

We invited parties to comment on the Preliminary Results. On April 27, 2007, we received a case brief from the respondent, Sidenor Industrial SL (Sidenor). On May 7, 2007, Carpenter Technology Corporation, Valbruna Slater Stainless, Inc., and Electralloy Corporation, a Division of G.O. Carlson, Inc. (collectively, the domestic interested parties), filed a rebuttal brief. At the request of Sidenor, we held a hearing on May 16, 2007.

We have conducted this review in accordance with section 751(a) of the Tariff Act of 1930, as amended (the Act).

Scope of Order

The product covered by this order is stainless steel bar (SSB). SSB means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections.

The SSB subject to this order is currently classifiable under subheadings 7222.10.0005, 7222.10.0050, 7222.20.0005, 7222.20.0045, 7222.20.0075, and 7222.30.0000 of the Harmonized Tariff Schedule of the United States (HTSUS). Although the HTSUS subheadings are provided for convenience and customs purposes, our written description of the scope of this order is dispositive.

Analysis of Comments Received

All comments raised in the case and rebuttal briefs by parties in this review of the antidumping duty order on stainless steel bar from Spain are addressed in the “Issues and Decision Memorandum” from Stephen J. Claeys, Deputy Assistant Secretary, to David M. Spooner, Assistant Secretary, dated July 26, 2007 (Decision Memorandum), which is hereby adopted by this notice. The Decision Memorandum, which is a public document, is on file in the Central Records Unit, main Commerce building, Room B-099, and is accessible on the Web at http://ia.ita.doc.gov/frn/index.html. The paper copy and electronic version of the Decision Memorandum are identical in content.

Changes Since The Preliminary Results

With respect to Sidenor, in the Preliminary Results, we determined that the use of adverse facts available is appropriate as the basis for the weighted-average dumping margin. For these final results of review, we have continued to rely on the use of adverse facts available in establishing the weighted-average dumping margin for Sidenor for the period of review. Therefore, there were no changes since the Preliminary Results.

Use of Adverse Facts Available

In accordance with section 776(b) of the Act, we determine that the use of adverse facts available as the basis for the weighted-average dumping margin is appropriate for Sidenor. As explained in the Preliminary Results and in the Memorandum from Mark Todd to Neal Halper, entitled “Use of Adverse Facts Available for the Preliminary Determination,” dated March 22, 2007 (AFA Memo), we determined that the cost-of-production (COP) questionnaire responses submitted by Sidenor are incomplete and cannot be used to calculate an accurate dumping margin for Sidenor. Specifically, as a result of the serious deficiencies that we identified and that Sidenor failed repeatedly to address with respect to its reporting of the COP information, we are unable to determine adequately whether the reported COP information reflects, reasonably and accurately, the costs incurred by Sidenor to produce the merchandise under consideration. Without this information, we cannot calculate an accurate dumping margin for this company.

Therefore, as a consequence of the requested necessary information being absent from the record, we find that our reliance on facts otherwise available is warranted pursuant to section 776(a)(1) of the Act. Furthermore, we find that Sidenor has withheld requested information, failed to provide such information in the form and manner required, impeded the conduct of this review, and reported information that could not be verified. As such, pursuant to sections 776(a)(2)(A), (B), (C), and (D) of the Act, we find that the use of facts available for the final results is warranted. For a detailed discussion, please refer to the AFA Memo. See also the Decision Memorandum for a complete discussion of this issue.In addition, we find that Sidenor did not act to the best of its ability in reporting the COP information. Despite our repeated requests for information and our generous provisions of extensions of due dates to respond, in some instances Sidenor continued to refrain from providing certain requested information regarding its reported costs; in other instances it provided confusing and sometimes contradictory information; yet in other instances it de-emphasized the significance or downplayed the necessity of our repeated requests for certain critical information by claiming that we had been “misinterpreting” or “misunderstanding” its COP response. See, e.g., Sidenor's January 24, 2007, third supplemental Section D questionnaire response at pages 1, 5, and 6. Therefore, we find that Sidenor has failed to cooperate to the best of its ability because Sidenor failed consistently to address certain critical elements for which we sought clarification or explanation in order to alleviate our concerns regarding the accuracy and reliability of Sidenor's reporting of its COP information. Accordingly, for these final results we find that, in selecting from among the facts otherwise available, an adverse inference is warranted. See the AFA Memo and the Decision Memorandum for a complete discussion of this issue.

As total adverse facts available, we have applied the highest rate determined in the less-than-fair-value investigation, which is 62.85 percent. See Notice of Final Determination of Sales at Less Than Fair Value: Stainless Steel Bar From Spain, 59 FR 66931 (December 28, 1994). Furthermore, as required by section 776(c) of the Act, we corroborated this margin with respect to Sidenor, to the extent practicable. For a detailed explanation of how we corroborated this margin, see the Preliminary Results. See also the Decision Memorandum for a complete discussion of this issue.

Final Results of the Review

As a result of our review, we determine a dumping margin of 62.85 percent for Sidenor for the period March 1, 2005, through February 28, 2006.

Assessment Rates

The Department will determine and U.S. Customs and Border Protection (CBP) shall assess antidumping duties on all appropriate entries, in accordance with 19 CFR 351.212(b). Because we are relying on total adverse facts available to establish Sidenor's dumping margin, we will instruct CBP to apply a dumping margin of 62.85 percent to all entries of subject merchandise during the period of review produced and/or exported by Sidenor. The Department intends to issue instructions to CBP 15 days after the date of publication of these final results of review.

Cash-Deposit Requirements

The following deposit requirements will be effective upon publication of this notice of final results of administrative review for all shipments of the subject merchandise entered, or withdrawn from warehouse, for consumption on or after the date of publication, consistent with section 751(a)(1) of the Act: (1) the cash-deposit rate for Sidenor will be 62.85 percent; (2) for previously investigated companies not listed above, the cash-deposit rate will continue to be the company-specific rate published for the most recent period; (3) if the exporter is not a firm covered in this review, a previous review, or the original less-than-fair-value (LTFV) investigation but the manufacturer is, the cash-deposit rate will be the rate established for the most recent period for the manufacturer of the merchandise; (4) the cash-deposit rate for all other manufacturers or exporters will continue to be 25.77 percent, which is the “all others” rate established in the LTFV investigation. See Amended Final Determination and Antidumping Duty Order: Stainless Steel Bar From Spain, 60 FR 11656 (March 2, 1995). These deposit requirements shall remain in effect until further notice.

Notification

This notice serves as a reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the return or destruction of APO materials or conversion to judicial protective order is hereby requested. Failure to comply with the regulations and the terms of an APO is a sanctionable violation.

We are issuing and publishing these results in accordance with sections 751(a)(1) and 777(i) of the Act.

Dated: July 26, 2007.
David M. Spooner,
Assistant Secretary for Import Administration.

[FR Doc. E7-15039 Filed 8-1-07; 8:45 am]

Billing Code: 3510-DS-S